DEPARTMENT OF TRANSPORTATION

Federal Highway Administration

[Docket No. FHWA-2017-0043]

Motorcyclist Advisory Council; Notice of Public Meeting

AGENCY: Federal Highway Administration (FHWA), U.S. Department of Transportation (DOT).

ACTION: Notice of public meeting.

SUMMARY: This notice announces the fifth meeting of the FHWA Motorcyclist Advisory Council (MAC).

DATES: The meeting will be held as an “in-person” meeting from 8:30 a.m. to 4:30 p.m. EST on December 10, 2019. Requests to attend the meeting must be received by December 2, 2019. Requests for accommodations to a disability must be received by December 2, 2019. Requests to speak during the meeting must be submitted with a written copy of their remarks to DOT by December 5, 2019.

ADDRESSES: The meeting will be held at the National Highway Institute, 1310 North Courthouse Road, Suite 300, Arlington, VA 22201. Members of the public who wish to attend are asked to send an email to MAC-FHWA@dot.gov. Individuals requiring accommodations are asked to note this when they send an email about attending to MAC-FHWA@dot.gov. If you would like to make oral statements regarding any of the items on the agenda, you should contact Mr. Michael Griffith at the phone number listed in the following section or email your request to MAC-FHWA@dot.gov. If you would like to file a written statement with the Committee, you may do so either before or after the meeting by submitting an electronic copy of that statement to MAC-FHWA@dot.gov or the specific docket page at: www.regulations.gov. An electronic copy of this notice may be downloaded from the Federal Register's home page at: http://www.archives.gov; the Government Publishing Office's database at: https://www.gpo.gov/fdsys/; or the specific docket page at: www.regulations.gov. An electronic copy of the minutes from all meetings will be available for download within 60 days of the conclusion of the meeting at: https://safety.fhwa.dot.gov/motorcycles/.

FOR FURTHER INFORMATION CONTACT: Mr. Michael Griffith, the Designated Federal Official, Office of Safety, 202-366-9469, (mike.griffith@dot.gov), or Ms. Guan Xu, 202-366-5892, (guan.xu@dot.gov), Federal Highway Administration, 1200 New Jersey Avenue SE, Washington, DC 20590.

SUPPLEMENTARY INFORMATION:

Background

Purpose of the Committee: Section 1426 of the Fixing America's Surface Transportation Act (Pub. L. 114-94) required the FHWA Administrator, on behalf of the Secretary, to establish the MAC. The MAC is responsible for providing advice and making recommendations concerning infrastructure issues related to motorcyclist safety including barrier design; road design, construction, and maintenance practices; and the architecture and implementation of intelligent transportation system technologies. On July 28, 2017, the Secretary of Transportation appointed 10 members to the MAC. Four meetings have been held to date.

Agenda Summary: In general, the meeting will again cover a topical discussion of the infrastructure issues described above, namely: Barrier design; road design, construction, and maintenance practices; and the architecture and implementation of intelligent transportation system technologies. Specifically at this MAC meeting, the agenda will cover the following key topics:

• Discussion of proposed draft MAC recommendations to identify areas that need the most attention for discussion and areas that are complete or near-complete.

• Public Comments.

• Finalizing areas of MAC recommendations and identify problem areas in need of more input or feedback.

• Discussion of next steps.

Public Participation: This meeting will be open to the public. The Designated Federal Official and the Chair of the Committee will conduct the meeting to facilitate the orderly conduct of business. If you would like to file a written statement with the Committee, you may do so either before or after the meeting. If you would like to make oral statements regarding any of the items on the agenda, you should contact Mr. Michael Griffith at the phone number listed in the FOR FURTHER INFORMATION CONTACT section or email the appropriate address listed in the ADDRESSES section. You must make your request for an oral statement at least 5 business days prior to the meeting. Reasonable provisions will be made to include any such presentation on the agenda. Public comment will be limited to 3 minutes per speaker, per topic.

Services for Individuals with Disabilities: The DOT is committed to providing equal access to this meeting for all participants. If you need alternative formats or services because of a disability, such as sign language, interpretation, or other ancillary aids, please indicate specific needs in your request to attend the meeting.

Authority: Section 1426 of Pub. L. 114-94.

Issued on: November 21, 2019.
Nicole R. Nason,
Administrator, Federal Highway Administration.

[FR Doc. 2019-25669 Filed 11-25-19; 8:45 am]

BILLING CODE 4910-22-P